DEPARTMENT OF ENERGY

Federal Energy Regulatory Commission

[Project No. 137-002]

Pacific Gas & Electric Company; Notice of Meeting

March 24, 2000.

Take notice of the following scheduled meeting of the Mokelumne Relicensing Collaborative. There will be a full group meeting on Wednesday, April 26, 2000, and Thursday, April 27, 2000.

All meetings will be from 9 a.m. to 4 p.m. at the PG&E offices, 2740 Gateway Oaks Drive, in Sacramento, California. Expected participants need to give their names to David Moller (PG&E) at (415) 973-4696 so that they can get through security.

For further information, please contact Elizabeth Molloy at (202) 208-0771.

David P. Boergers,
Secretary.

[FR Doc. 00-7793 Filed 3-29-00; 8:45 am]

BILLING CODE 6717-01-M